FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 29, 2013.

A. Federal Reserve Bank of Atlanta (Chapelle Davis, Assistant Vice President) 1000 Peachtree Street NE., Atlanta, Georgia 30309:

1. H. Gary and Renee B. Morse; H. Gary Morse Family Trust; H. Gary Morse, as trustee; Mark G. Morse; Mark G. Morse Family Trust, Mark G. Morse as trustee; Jennifer L. Parr; Jennifer L. Parr Family Trust, Jennifer L. Parr as trustee; Tracy L. Mathews; Tracy L. Mathews Family Trust, Tracy L. Mathews as trustee; Daniel Justin Wilson; Jeffrey P. and Teresa G. Skates; and Jeffrey P. Skates as trustee of DJW Irrevocable Trust; James Allen Hawkins, III Irrevocable Trust; Madison Renee Wilson Irrevocable Trust; Waylon Wilson Irrevocable Trust; Whitney Alice Morse Irrevocable Trust; Kelsea Louise Morse Irrevocable Trust; Whitney Morse September 8, 2005 Irrevocable Trust; Kelsea Morse September 8, 2005 Irrevocable Trust; Harper Deskin Boone Irrevocable Trust; Hudson Morse Parr Irrevocable Trust; Megan Whitney Boone Irrevocable Trust; Paige Marsden Boone Irrevocable Trust; Paige M. Boone October 6, 2005 Irrevocable Trust; Megan W. Boone October 6, 2005 Irrevocable Trust; Harper D. Boone October 6, 2005 Irrevocable Trust; James H. Parr, Jr. October 6, 2005 Irrevocable Trust; Thomas Parr October 6, 2005 Irrevocable Trust; Hudson M. Parr October 6, 2005 Irrevocable Trust; The 2012 Megan W. Boone Irrevocable Trust; The 2012 Paige M. Boone Irrevocable Trust; The 2012 Harper D. Boone Irrevocable Trust; The 2012 Hudson M. Boone Irrevocable Trust; Devon Lee Mathews Irrevocable Trust; Lauren Elizabeth Mathews Irrevocable Trust; Lindsey Morse Mathews Irrevocable Trust; Devon Lee Mathews November 7, 2005 Irrevocable Trust; Lauren Elizabeth Mathews November 7, 2005 Irrevocable Trust; and Lindsey Morse Mathews November 7, 2005 Irrevocable Trust; all of The Villages, Florida; to acquire voting shares of Villages Bancorporation, Inc., and thereby indirectly acquire voting shares of Citizens First Bank, both in The Villages, Florida.

B. Federal Reserve Bank of Kansas City (Dennis Denney, Assistant Vice President) 1 Memorial Drive, Kansas City, Missouri 64198-0001:

1. The Scott L. Graham Revocable Trust; and Anne Graham, as trustee of the Scott L. Graham Revocable Trust, Broken Arrow, Oklahoma; to retain voting shares of First Broken Arrow Corporation, and thereby indirectly retain voting shares of First National Bank and Trust Company of Broken Arrow, both in Broken Arrow, Oklahoma.

Board of Governors of the Federal Reserve System, October 9, 2013.
Michael J. Lewandowski,
Associate Secretary of the Board.

[FR Doc. 2013-24460 Filed 10-11-13; 8:45 am]

BILLING CODE 6210-01-P